ENVIRONMENTAL PROTECTION AGENCY

40 CFR Parts 60 and 63

[EPA-HQ-OAR-2008-0708, FRL-9915-09-OAR]

RIN 2060-AR90

NESHAP for Reciprocating Internal Combustion Engines; NSPS for Stationary Internal Combustion Engines

AGENCY: Environmental Protection Agency.

ACTION: Notice of final decision on reconsideration.

SUMMARY: On January 30, 2013, the Environmental Protection Agency (EPA) finalized amendments to the National Emission Standards for Hazardous Air Pollutants for Stationary Reciprocating Internal Combustion Engines and the Standards of Performance for Stationary Internal Combustion Engines. Subsequently, the EPA received three petitions for reconsideration of the final rule. On September 5, 2013, the EPA announced reconsideration of and requested public comment on three issues raised in the petitions for reconsideration. A summary of the public comments received on the September 5, 2013, notice of reconsideration and the EPA's responses to those comments (Response to Comment document) can be found in the rulemaking docket at Docket Number EPA-HQ-OAR-2008-0708. After careful consideration of the public comments received on the September 5, 2013, notice, the EPA has determined that it will not propose any changes to the regulations at this time related to the three petition issues, and is providing notice of this decision. The EPA is informing the petitioners of the decision in separate letters to the petitioners. The letters explain the EPA's reasons for not proposing changes to the regulations for those three issues. Further discussion of the three petition issues can be found in the Response to Comment document.

DATES: Effective August 15, 2014.

Any petitions for review of the letters announcing the EPA's decision not to propose changes to the regulations in response to the public comments received on the three issues under reconsideration described in this Notice must be filed in the U.S. Court of Appeals for the District of Columbia Circuit by October 14, 2014.

FOR FURTHER INFORMATION CONTACT: Ms. Melanie King, Energy Strategies Group, Sector Policies and Programs Division (D243-01), Environmental Protection Agency, Research Triangle Park, North Carolina 27711; telephone number: (919) 541-2469; facsimile number: (919) 541-5450; email address: king.melanie@epa.gov.

SUPPLEMENTARY INFORMATION:

I. How can I get copies of this document and other related information?

This Federal Register document, the petitions for reconsideration, the letters responding to the petitioners and the Response to Comment document are available in the docket that the EPA established for the “National Emission Standards for Hazardous Air Pollutants for Existing Reciprocating Internal Combustion Engines” under Docket ID No. EPA-HQ-OAR-2008-0708. The document numbers for the petitions for reconsideration are EPA-HQ-OAR-2008-0708-1505, EPA-HQ-OAR-2008-0708-1506 and EPA-HQ-OAR-2008-0708-1507. All documents in the docket are listed in the www.regulations.gov index. The EPA also relies on documents in Docket ID Nos. EPA-HQ-OAR-2002-0059, EPA-HQ-OAR-2005-0029, EPA-HQ-OAR-2005-0030 and EPA-HQ-OAR-2010-0295, and incorporated those dockets into the docket for this action. Although listed in the index, some information is not publicly available, e.g., Confidential Business Information or other information whose disclosure is restricted by statute. Certain other material, such as copyrighted material, will be publicly available only in hard copy. Publicly available docket materials are available either electronically at www.regulations.gov or in hard copy at the EPA Docket Center, EPA WJC West Building, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

This Federal Register notice, the petitions for reconsideration, the letters providing the EPA's decision on the reconsideration and the Response to Comment document can also be found on the EPA's Web site at http://www.epa.gov/ttn/atw/icengines/. The amendments to the National Emission Standards for Hazardous Air Pollutants for Stationary Reciprocating Internal Combustion Engines and the Standards of Performance for Stationary Internal Combustion Engines were published in the Federal Register on January 30, 2013, at 78 FR 6674. The notice of reconsideration and request for public comment was published in the Federal Register on September 5, 2013, at 78 FR 54610.

II. Judicial Review

Any petitions for review of the letters announcing the EPA's decision not to propose changes to the regulations in response to the public comments received on the three issues under reconsideration described in this Notice must be filed in the U.S. Court of Appeals for the District of Columbia Circuit by October 14, 2014.

List of Subjects

40 CFR part 60

Environmental protection, Administrative practice and procedure, Air pollution control, Intergovernmental relations, Reporting and recordkeeping requirements.

40 CFR part 63

Environmental protection, Administrative practice and procedure, Air pollution control, Hazardous substances, Intergovernmental relations, Reporting and recordkeeping requirements.

Dated: August 1, 2014.
Gina McCarthy,
Administrator.

[FR Doc. 2014-19062 Filed 8-14-14; 8:45 am]

BILLING CODE 6560-50-P